DEPARTMENT OF DEFENSE

Defense Acquisition Regulations System

48 CFR Parts 208, 209, and 225

Defense Federal Acquisition Regulation Supplement; Technical Amendments

AGENCY: Defense Acquisition Regulations System, Department of Defense (DoD).

ACTION: Final rule.

SUMMARY: DoD is making technical amendments to the Defense Federal Acquisition Regulation Supplement (DFARS) to update cross-references and to add a reference to the DFARS companion resource, Procedures, Guidance, and Information.

EFFECTIVE DATE: October 26, 2006.

FOR FURTHER INFORMATION CONTACT: Ms. Michele Peterson, Defense Acquisition Regulations System, OUSD (AT&L) DPAP (DARS), IMD 3C132, 3062 Defense Pentagon, Washington, DC 20301-3062. Telephone (703) 602-0311; facsimile (703) 602-0350.

SUPPLEMENTARY INFORMATION: This final rule amends DFARS text as follows:

• Sections 208.7400 and 209.105-2. Updates cross-references.

• Section 225.004. Adds a reference to reporting instructions found in the DFARS companion resource, Procedures, Guidance, and Information (PGI).

List of Subjects in 48 CFR Parts 208, 209, and 225

Government procurement.

Michele P. Peterson,
Editor, Defense Acquisition Regulations System.

Therefore, 48 CFR parts 208, 209, and 225 are amended as follows:

1. The authority citation for 48 CFR parts 208, 209, and 225 continues to read as follows:

Authority: 41 U.S.C. 421 and 48 CFR Chapter 1.

PART 208—REQUIRED SOURCES OF SUPPLIES AND SERVICES

208.7400 [Amended]

2. Section 208.7400 is amended in paragraph (d) by removing “8.404(b)(4)” and adding in its place “8.405 and 208.405-70”.

PART 209—CONTRACTOR QUALIFICATIONS

3. Section 209.105-2 is revised to read as follows:

209.105-2 Determinations and documentation.

(a) The contracting officer shall submit a copy of a determination of nonresponsibility to the appropriate debarring and suspending official listed in 209.403.

PART 225—FOREIGN ACQUISITION

4. Section 225.004 is added to read as follows:

225.004 Reporting of acquisition of end products manufactured outside the United States.

Follow the procedures at PGI 225.004 for entering the data upon which the report required by FAR 25.004 will be based.

[FR Doc. E6-17954 Filed 10-25-06; 8:45 am]

BILLING CODE 5001-08-P